DEPARTMENT OF JUSTICE

Drug Enforcement Administration

Importer of Controlled Substances; Notice of Withdrawal

As set forth in the Federal Register (FR Doc. 99-21588) Vol. 64, No. 161 at page 45565, dated August 20, 1999, Morton Grove Pharmaceuticals, Inc., 6451 W. Main Street, Morton Grove, Illinois 60053, made application to the Drug Enforcement Administration for registration as an importer of codeine (9050).

Two registered bulk manufacturers of codeine requested a hearing to deny the proposed registration of Morton Grove Pharmaceuticals. Morton Grove Pharmaceuticals requested by letter that its application be withdrawn. Therefore, Morton Grove Pharmaceuticals' application to import codeine is hereby withdrawn.

Dated: August 21, 2000.
John H. King,
Deputy Assistant Administrator, Office of Diversion Control, Drug Enforcement Administration.

[FR Doc. 00-23621 Filed 9-13-00; 8:45 am]

BILLING CODE 4410-09-M